DEPARTMENT OF THE INTERIOR

Fish and Wildlife Service

[FWS-R4-ES-2024-N026; FXES11140400000-245-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act. We invite the public and local, State, Tribal, and Federal agencies to comment on these applications. Before issuing any of the requested permits, we will take into consideration any information that we receive during the public comment period.

DATES: We must receive written data or comments on the applications by May 31, 2024.

ADDRESSES: Reviewing Documents: Submit requests for copies of applications and other information submitted with the applications to Karen Marlowe (see FOR FURTHER INFORMATION CONTACT). All requests and comments should specify the applicant's name and application number (e.g., Mary Smith, ESPER0001234).

Submitting Comments: If you wish to comment, you may submit comments by one of the following methods:

• Email (preferred method): permitsR4ES@fws.gov. Please include your name and return address in your email message. If you do not receive a confirmation from the U.S. Fish and Wildlife Service that we have received your email message, contact us directly at the telephone number listed in FOR FURTHER INFORMATION CONTACT.

• U.S. mail: U.S. Fish and Wildlife Service Regional Office, Ecological Services, 1875 Century Boulevard, Atlanta, GA 30345 (Attn: Karen Marlowe, Permit Coordinator).

FOR FURTHER INFORMATION CONTACT: Karen Marlowe, Permit Coordinator, via telephone at 404-679-7097 or via email at karen_marlowe@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service, invite review and comment from the public and local, State, Tribal, and Federal agencies on applications we have received for permits to conduct certain activities with endangered and threatened species under section 10(a)(1)(A) of the Endangered Species Act of 1973, as amended (ESA; 16 U.S.C. 1531 et seq.), and our regulations in the Code of Federal Regulations (CFR) at 50 CFR part 17. Documents and other information submitted with the applications are available for review, subject to the requirements of the Privacy Act of 1974, as amended (5 U.S.C. 552a), and the Freedom of Information Act (5 U.S.C. 552).

Background

With some exceptions, the ESA prohibits take of listed species unless a Federal permit is issued that authorizes such take. The definition of “take” in the ESA includes hunting, shooting, harming, wounding, or killing, and also such activities as pursuing, harassing, trapping, capturing, or collecting.

A recovery permit issued by us under section 10(a)(1)(A) of the ESA authorizes the permittee to take endangered or threatened species while engaging in activities that are conducted for scientific purposes that promote recovery of species or for enhancement of propagation or survival of species. These activities often include the capture and collection of species, which would result in prohibited take if a permit were not issued. Our regulations implementing section 10(a)(1)(A) of the ESA for these permits are found at 50 CFR 17.22 for endangered wildlife species, 50 CFR 17.32 for threatened wildlife species, 50 CFR 17.62 for endangered plant species, and 50 CFR 17.72 for threatened plant species.

Permit Applications Available for Review and Comment

The ESA requires that we invite public comment before issuing these permits. Accordingly, we invite local, State, Tribal, and Federal agencies, and the public to submit written data, views, or arguments with respect to these applications. The comments and recommendations that will be most useful and likely to influence agency decisions are those supported by quantitative information or studies. Proposed activities in the following permit requests are for the recovery and enhancement of propagation or survival of the species in the wild.

Permit application No. | Applicant | Species | Location | Activity | Type of take | Permit action
ES117405-5 | Tennessee Valley Authority; Knoxville, TN | Tricolored bat (Perimyotis subflavus) | Alabama, Arkansas, Georgia, Kentucky, Mississippi, North Carolina, Tennessee, and Virginia | Presence/probable absence surveys | Enter hibernacula or maternity roost caves, capture with mist nets or harp traps, handle, identify, collect hair samples, band, radio tag, light tag, wing punch, and release | Renewal and amendment
ES79580A-4 | Jason Butler; Midway, KY | Tricolored bat (Perimyotis subflavus) | Kentucky, Tennessee, Virginia, and West Virginia | Presence/probable absence surveys | Enter hibernacula or maternity roost caves, capture, handle, identify, band, radio tag, and release | Renewal and amendment
ES75560C-1 | Jeffrey Hawkins; Richmond, KY | Gray bat (Myotis grisescens), Indiana bat (Myotis sodalis), northern long-eared bat (Myotis septentrionalis), Ozark big-eared bat (Corynorhinus townsendii ingens), tricolored bat (Perimyotis subflavus), Virginia big-eared bat (Corynorhinus townsendii virginianus), blackside dace (Phoxinus cumberlandensis), Kentucky arrow darter (Etheostoma spilotum), and 40 species of freshwater mussels | Alabama, Arkansas, Connecticut, Delaware, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Scientific research and population monitoring | Bats: Enter hibernacula or maternity roost caves, capture, handle, identify, collect hair samples, band, radio tag, light tag, swab, and wing punch; fishes and mussels: capture, identify, and release | Renewal and amendment
ES171493-5 | Memphis Zoo; Memphis, TN | Dusky gopher frog (Rana sevosa) and Louisiana pinesnake (Pituophis ruthveni) | Louisiana, Mississippi, Tennessee, and Texas | Captive propagation and release, monitoring of reintroduced populations, and scientific research | Dusky gopher frog: capture by hand and with dip nets, PIT tag, VIA tag, collect eggs, collect toe clips, swab, preserve deceased specimens, transport, release, monitor, and humanely euthanize captive-bred individuals; Louisiana pinesnake: capture, handle, PIT tag, collect semen, collect blood and shed skins, conduct in-situ gastric washing, swab, and remove up to five males from the wild | Renewal and amendment
ES75551C-1 | Phillip Arant; Fairmont, WV | Gray bat (Myotis grisescens), Indiana bat (Myotis sodalis), and northern long-eared bat (Myotis septentrionalis) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Capture, handle, identify, band, radio tag, and release | Renewal
ES100626-10 | Selby Environmental, Inc; Decatur, AL | Atlantic pigtoe (Fusconaia masoni), birdwing pearlymussel (Lemiox rimosus), black warrior waterdog (Necturus alabamensis), Canoe Creek clubshell (Pleurobema athearni), longsolid (Fusconaia subrotunda), oyster mussel (Epioblasma capsaeformis), purple bankclimber (Elliptoideus sloatianus), round hickorynut (Obovaria subrotunda), sheepnose (Plethobasus cyphyus), snuffbox (Epioblasma triquetra), Suwannee moccasinshell (Medionidus walkeri), tan riffleshell (Epioblasma florentina walkeri [=E. walker]), and yellow lance (Elliptio lanceolata) | Alabama, Arkansas, Florida, Georgia, Illinois, Indiana, Iowa, Kansas, Kentucky, Louisiana, Michigan, Minnesota, Mississippi, Missouri, Nebraska, New Mexico, New York, North Carolina, Ohio, Oklahoma, Pennsylvania, South Dakota, Tennessee, Texas, Virginia, West Virginia, and Wisconsin | Presence probable absence surveys | Capture, handle identify, release, and salvage relic shells | Renewal and amendment
PER0018443-1 | U.S. Army Engineer Research and Development Center; Vicksburg, MS | Cylindrical lioplax (Lioplax cyclostomaformis), Lacy elimia (Elimia crenatella), painted rocksnail (Leptoxis taeniata), rough hornsnail (Pleurocera foremani), and tulotoma snail (Tulotoma magnifica) | Alabama | Presence/probable absence surveys and scientific studies | Capture, handle, identify, and release | Amendment
PER0039682-0 | Carl Dick; Bowling Green, KY | Gray bat (Myotis grisescens), Indiana bat (Myotis sodalis), northern long-eared bat (Myotis septentrionalis), and Virginia big-eared bat (Corynorhinus towsendii virginianus) | North Carolina | Parasitic micro fungi study | Capture, handle, identify, band, and release | New
PER8279969-0 | Drew Powell; Louisville, KY | Gray bat (Myotis grisescens), Indiana bat (Myotis sodalis), northern long-eared bat (Myotis septentrionalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys | Enter hibernacula or maternity caves, capture, handle, identify, band, radio tag, collect hair, swab, fungal lift tape, and release | New
PER8275393-0 | Scott Slankard; Lawrenceburg, KY | Gray bat (Myotis grisescens), Indiana bat (Myotis sodalis), northern long-eared bat (Myotis septentrionalis), Ozark big-eared bat (Corynorhinus townsendii ingens), tricolored bat (Perimyotis subflavus), Virginia big-eared bat (Corynorhinus townsendii virginianus) | Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/probable absence surveys | Capture, handle, identify, band, radio tag, and release | New
ES102418-3 | Florida Army National Guard; Starke, FL | Red-cockaded woodpecker (Picoides borealis) and eastern indigo snake (Drymarchon corais couperi) | Camp Blanding Joint Training Center, Starke, FL | Presence/probable absence surveys and population management | Red-cockaded woodpecker: monitor nest cavities, capture, band, release, and install artificial nest cavities; eastern indigo snake: scope burrows, capture, handle, and release | Renewal and amendment
ES50300D-1 | Edward Wilson; Lexington, KY | Gray bat (Myotis grisescens), Indiana bat (Myotis sodalis), northern long-eared bat (Myotis septentrionalis), and tricolored bat (Perimyotis subflavus) | Kentucky, Ohio, and Tennessee | Presence/probable absence surveys | Capture, handle, identify, band, radio tag, and release | Amendment
ES009638-13 | Appalachian Technical Services, Inc.; Wise, VA | Tricolored bat (Perimyotis subflavus) | Alabama, Georgia, Indiana, Kentucky, Mississippi, North Carolina, Ohio, Pennsylvania, Tennessee, Virginia, and West Virginia | Presence/probable absence surveys | Enter hibernacula, capture, handle, identify, band, radio tag, and release | Amendment
ES82659D-1 | Sarah Messer; Huntington, WV | Indiana bat (Myotis sodalis), gray bat (Myotis grisescens), northern long-eared bat (Myotis septentrionalis), and tricolored bat (Perimyotis subflavus) | Alabama, Arkansas, Colorado, Connecticut, Delaware, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, Wyoming | Presence/probable absence surveys | Capture, handle, identify, band, radio tag, and release | Amendment
CS5916357-0 | Peter Hazelton, University of Georgia; Athens, GA | Carolina heelsplitter (Lasmigona decorata) | South Carolina | Presence/probable absence surveys and population demographic and habitat data collection | Capture, handle, identify, release, and salvage relic shells | New
PER9340831-0 | Jeffrey Garner; Florence, AL | Anthony's riversnail (Athearnia anthonyi), armored marstonia (Marstonia pachyta), cylindrical lioplax (Lioplax cyclostomatiformis), flat pebblesnail (Lepyrium showalteri), interrupted rocksnail (Leptoxis foremani), lacy elimia (Elimia crenatella), painted rocksnail (Leptoxis taeniata), plicate rocksnail (Leptoxis plicata), rough hornsnail (Pleurocera foremani), round rocksnail (Leptoxis ampla), royal marstonia (Marstonia ogmorhaphe), slender campeloma (Campeloma decampi), tulotoma (Tulotoma magnifica), and 73 species of freshwater mussels | Alabama, Florida, Georgia, Mississippi, North Carolina, Tennessee, and Virginia | Presence/probable absence surveys, quantification of community composition and density, and nonlethal collection of DNA samples | Capture, handle, identify, release, and salvage relic shells | New
ES676379-8 | NOAA/National Marine Fisheries Service; Pascagoula, MS | Green sea turtle (Chelonia mydas), hawksbill sea turtle (Eretmochelys imbricata), Kemp's ridley sea turtle (Lepidochelys kempii), leatherback sea turtle (Dermochelys coriacea), and loggerhead sea turtle (Caretta caretta) | Alabama, Florida, Georgia, Louisiana, Mississippi, North Carolina, South Carolina, and Texas | Population monitoring | PIT tag and flipper tag; collect biopsy, blood, and scute samples | Renewal and amendment
ES41910B-4 | Scott Rush, Mississippi State University; Starkville, MS | Indiana bat (Myotis sodalis), gray bat (Myotis grisescens), northern long-eared bat (Myotis septentrionalis), and gopher tortoise (Gopherus polyphemus) | Alabama, Louisiana, Mississippi, Ohio, and Tennessee | Presence/probable absence surveys and scientific research | Bats: capture, handle, identify, band, collect hair samples, and release; Gopher tortoise: scope burrows, capture, handle, mark, attach transmitters, and attach GPS data loggers | Renewal and amendment
PER9604902-0 | Kaitlyn Torrey; Woodstock, GA | Indiana bat (Myotis sodalis), gray bat (Myotis grisescens), northern long-eared bat (Myotis septentrionalis), and tricolored bat (Perimyotis subflavus) | Alabama, Arkansas, Colorado, Connecticut, Delaware, District of Columbia, Florida, Georgia, Illinois, Indiana, Iowa, Kansas, Kentucky, Louisiana, Maine, Maryland, Massachusetts, Michigan, Minnesota, Mississippi, Missouri, Nebraska, New Hampshire, New Jersey, New Mexico, New York, North Carolina, North Dakota, Ohio, Oklahoma, Pennsylvania, Rhode Island, South Carolina, South Dakota, Tennessee, Texas, Vermont, Virginia, West Virginia, Wisconsin, and Wyoming | Presence/probable absence surveys | Capture, handle, identify, band, radio tag, and release | New
PER9605390-0 | Amanda Rosenberger; Cookeville, TN | Chucky madtom (Noturus crypticus) and 53 species of freshwater mussels | Tennessee and Virginia | Presence/probable absence surveys and scientific research | Fishes: capture, handle, identify, swab, fin clip, and release; Mussels: capture, handle, identify, release, and salvage relic shells | New

Public Availability of Comments

Written comments we receive become part of the administrative record associated with this action. Before including your address, phone number, email address, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Next Steps

After the comment period closes, we will make decisions regarding permit issuance. If we issue permits to any of the applicants listed above in this notice, we will publish a subsequent notice in the Federal Register. You may locate the notice announcing the permit issuance by searching https://www.regulations.gov for the application number listed above in this document. Type in your search exactly as the application number appears above, with spaces and hyphens as necessary. For example, to find information about the potential issuance of Permit No. PER 1234567-0, you would go to https://www.regulations.gov and put “PER 1234567-0” in the Search field.

Authority

We publish this notice under section 10(c) of the Endangered Species Act of 1973, as amended (16 U.S.C. 1531 et seq.).

Sean Blomquist,
Acting Deputy Assistant Regional Director, Ecological Services, Southeast Region.

[FR Doc. 2024-09347 Filed 4-30-24; 8:45 am]

BILLING CODE 4333-15-P